DEPARTMENT OF ENERGY

Federal Energy Regulatory Commission

[Docket No. CP08-416-000]

Equitrans, L.P.; Notice of Request Under Blanket Authorization

June 11, 2008.

Take notice that on June 2, 2008, Equitrans, L.P. (Equitrans), 225 North Shore Drive, Pittsburgh, Pennsylvania 15212, filed in Docket No. CP08-416-000, an application pursuant to sections 157.205 and 157.216 of the Commission's Regulations under the Natural Gas Act (NGA) as amended, to abandon four storage injection/withdrawal wells in its Logansport Storage Reservoir in Marion County, WV, under Equitrans' blanket certificate issued in Docket No. CP96-532-000, all as more fully set forth in the application which is on file with the Commission and open to the public for inspection.

Equitrans proposes to abandon four injection/withdrawal wells in its Logansport Storage Reservoir ¹ as part of an April 10, 2008, settlement agreement with the Consolidation Coal Company (Consol), who owns and operates a longwall coal mining operation (the Robinson Run Mine) in Marion County, WV, which is in close proximity to Equitrans' Logansport Storage Field. Equitrans states that the four injection/withdrawal well bores are in the projected path of Consol's mining operations. Equitrans further states that in order to avoid damage to both Equitrans' wells and Consol's mining equipment, the wells would need to be abandoned and the well casings removed. Equitrans also states that it would cost approximately $261,756 to abandon the four injection/withdrawal wells.

¹ Equitrans has also proposed in a concurrent filing in Docket No. CP08-417-000 to replace the four abandoned wells with two horizontal storage injection/withdrawal wells.

Any questions concerning this application may be directed to Andrew L. Murphy, Vice President, Equitrans, L.P., 225 North Shore Drive, Pittsburgh, Pennsylvania 15212, or telephone 412-395-3358 or facsimile 412-395-3166.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E8-13686 Filed 6-17-08; 8:45 am]

BILLING CODE 6717-01-P